DEPARTMENT OF THE INTERIOR

Bureau of Land Management

[CA-660-02-1610-DS]

Notice of Availability of Draft California Desert Conservation Area Plan Amendment for the Coachella Valley, Draft Trails Management Plan and Draft Environmental Impact Statement

AGENCY: Bureau of Land Management, Interior.

ACTION: Notice of Availability of Draft California Desert Conservation Area (CDCA) Plan Amendment for the Coachella Valley, Draft Trails Management Plan and Draft Environmental Impact Statement (DEIS).

SUMMARY: In compliance with Title 43 Code of Federal Regulations (CFF) Part 1610.2(f)(3) and Title 40 CFR part 1500, the Bureau of Land Management (BLM) hereby gives notice that the Draft CDCA Plan Amendment for the Coachella Valley, Draft Trails Management Plan, and DEIS is available for public review and comment.

DATES: Comments will be accepted until 90-days have elapsed after publication of notice in the Federal Register by the Environmental Protection Agency (EPA).

ADDRESSES: If you wish to comment, you may submit your comments by any of several methods. You may mail comments to: James G. Kenna, Field Manager; Bureau of Land Management, Palm Springs-South Coast Field Office, P.O. Box 581260, North Palm Springs, CA 92258.

You may also comment via the Internet to emisquez@ca.blm.gov. Please submit Internet comments as an ASCII file, avoiding the use of special characters and any form of encryption. Please also include in the subject line: “Draft CDCA Plan Amendment and EIS” and your name and return address in your Internet message. If you do not receive a confirmation from the system that we have received your Internet message, contact Elena Misquez at (760) 251-4810. Finally, you may hand-deliver comments to: Bureau of Land Management, Palm Springs-South Coast Field Office, 690 W. Garnet Avenue, North Palm Springs, CA 92258.

Oral comments will be accepted and recorded at any of three public meetings to be held during the month of July, 2002. Notice published in local media will also be provided at least 15 days prior to the scheduled public meetings.

Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

FOR FURTHER INFORMATION CONTACT: Elena Misquez at (760) 251-4810 or emisquez@ca.blm.gov.

SUPPLEMENTARY INFORMATION: A copy of the Draft CDCA Plan Amendment for the Coachella Valley, Draft Trails Management Plan, and DEIS is available for review via the internet at www.ca.blm.gov/palmsprings. Electronic (on CD-ROM) and paper copies may also be obtained by contacting Elena Misquez at the aforementioned addresses and phone number.

This Draft CDCA Plan Amendment for the Coachella Valley and draft Trails Management Plan is being developed in partnership with the Coachella Valley Association of Governments (CVAG) in support of their efforts to prepare a Coachella Valley Multi-Species Habitat Conservation Area Plan (CVMSHCP). The Trails Management Plan will be incorporated into the CVMSHCP. Upon completion of the environmental impact statement/environmental impact report for the CVMSHCP, BLM may adopt the CVMSHCP as an activity (implementation) level plan in accordance with Bureau Manual guidance and the National Environmental Policy Act of 1969 (NEPA). A separate record of decision will be prepared for the CDCA Plan Amendment for the Coachella Valley in accordance with the planning regulations at Title 43 CFR 1610 and NEPA.

Dated: May 6, 2002.
James G. Kenna,
Field Manager.

[FR Doc. 02-13475 Filed 5-30-02; 8:45 am]

BILLING CODE 4310-40-P